FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of the agreements are available through the Commission's Web site (http://www.fmc.gov) or contacting the Office of Agreements at (202) 523-5793 or tradeanalysis@fmc.gov.

Agreement No.: 012044-002.

Title: MOL/CMA CGM Slot Charter Agreement.

Parties: CMA CGM S.A. and Mitsui O.S.K. Lines, Ltd.

Filing Party: Robert B. Yoshitomi, Esq.; Nixon Peabody LLP; Gas Company Tower; 555 West Fifth Street, 46th Floor, Los Angeles, CA 90013.

Synopsis: The amendment revises the number of slots MOL is authorized to sell to CMA CGM.

Agreement No.: 201196-003.

Title: Los Angeles and Long Beach Marine Terminal Agreement.

Parties: City of Los Angeles and City of Long Beach.

Filing Party: Matthew J. Thomas, Esq.; Troutman Sanders LLP; 401 9th Street, NW., Suite 1000, Washington, DC 20004.

Synopsis: The amendment revises the dates for collection and the amount of certain fees.

By Order of the Federal Maritime Commission.
Dated: May 1, 2009.
Karen V. Gregory,
Secretary.

[FR Doc. E9-10501 Filed 5-5-09; 8:45 am]

BILLING CODE 6730-01-P